DEPARTMENT OF HEALTH AND HUMAN SERVICES

Administration for Community Living

Agency Information Collection Activities; Submission for OMB Review; Public Comment Request; of the Independent Living Services (ILS) Program Performance Report (PPR) OMB Control Number 0985-0043

AGENCY: Administration for Community Living, HHS.

ACTION: Notice.

SUMMARY: The Administration for Community Living is announcing that the proposed collection of information listed above has been submitted to the Office of Management and Budget (OMB) for review and clearance as required under the Paperwork Reduction Act of 1995. This 30-Day notice collects comments on the information collection requirements related to the Independent Living Services (ILS) Program Performance Report (PPR) OMB 0985-0043.

DATES: Comments on the collection of information must be submitted electronically by 11:59 p.m. (EDT) or postmarked by April 24, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or OILPPRAComments@acl.hhs.gov.

SUPPLEMENTARY INFORMATION: In compliance with the Paperwork Reduction Act (44 U.S.C. 3506), the Administration for Community Living (ACL) has submitted the following proposed collection of information to OMB for review and clearance. The Independent Living Services (ILS) program provides financial assistance, through formula grants, to all fifty states, the District of Columbia, Puerto Rico, American Samoa, the Commonwealth of the Northern Mariana Islands, Guam, and US Virgin Islands for expanding, and improving the provision of, IL services. The Designated State Entity (DSE) is the agency that, on behalf of the state, receives, accounts for, and disburses funds received under Part B of the Rehabilitation Act of 1973, as amended (the Act). Funds are also made available for the provision of training and technical assistance to Statewide Independent Living Councils (SILCs). The Rehabilitation Act of 1973, as amended, requires three IL program reports: (1) State Plan for Independent Living (SPIL), (2) ILS Program Performance Report, and (3) Center for Independent Living (CIL) PPR. The ILS PPR is submitted annually by the SILC and DSE in every state, territory, and outlying area that receives Part B funds and in the District of Columbia. The ILS PPRs are used by ACL to assess grantees' compliance with title VII of the Act, with 45 CFR part 1329 of the Code of Federal Regulations, and with applicable provisions of the HHS Regulations at 45 CFR part 75. The ILS PPR serves as the primary basis for ACL's monitoring activities in fulfillment of its responsibilities under sections 706 and 722 of the Act. The PPR is also used by ACL to design CIL and SILC training and technical assistance programs authorized by section 721 of the Act.

ACL will adhere to best practices for collection of all demographic information in accordance with OMB guidance—including, but not limited to guidance specific to the collection of sexual orientation and gender identity (SOGI) items that support alignment with Executive Order 13985 on Advancing Racial Equity and Support for Underserved Communities through the federal government, Executive Order 14075 on Advancing Equality for Lesbian, Gay, Bisexual, Transgender, Queer, and Intersex Individuals, and Executive Order 13988 on Preventing and Combating Discrimination on the Basis of Gender Identity and Sexual Orientation. Understanding these disparities can and should lead to improved service delivery for ACL's programs and populations served.

Comments in Response to the 60-Day Federal Register Notice

A notice published in the Federal Register at 88 FR 78369 on November 15, 2023. During the 60-day comment period, ACL received approximately one-hundred and eleven comments on many aspects of the ILS PPR. A public comment and ACL's response to comment table is listed in Supporting Statement A.

Estimated Program Burden: ACL estimates the burden of this collection of information as follows:

The PPR will be sent to representatives of fifty states, the District of Columbia, Puerto Rico, American Samoa, the Commonwealth of the Northern Mariana Islands, Guam, and US Virgin Islands. The approximate burden for completion is thirty-six hours per respondent, which includes time to review the instructions, read the questions, and complete responses. This results in a total annual burden estimate of 2,016 hours.

Total Estimated Annualized Burden Hours
Number of respondents | Responses per respondent | Average burden hours per response | Total burden hours
56 | 1 | 36 | 2,016

Dated: March 19, 2024.
Alison Barkoff,
Principal Deputy Administrator for the Administration for Community Living, performing the delegable duties of the Administrator and the Assistant Secretary for Aging.

[FR Doc. 2024-06207 Filed 3-22-24; 8:45 am]

BILLING CODE 4154-01-P